DEPARTMENT OF STATE

[Public Notice 4256]

In the Matter of the Designation of Lashkar i Jhangvi as a Foreign Terrorist Organization Pursuant to Section 219 of the Immigration and Nationality Act

Based upon a review of the Administrative Record assembled in this matter and in consultation with the Attorney General and the Secretary of the Treasury, I conclude that there is a sufficient factual basis to find that the relevant circumstances described in section 219 of the Immigration and Nationality Act, as amended (hereinafter “INA”), exist with respect to Lashkar i Jhangvi. Therefore, I intend to designate that organization as a foreign terrorist organization pursuant to section 219(a) of the INA.

This designation shall be published in the Federal Register.

Dated: January 21, 2003.
Colin L. Powell,
Secretary of State, Department of State.

[FR Doc. 03-2201 Filed 1-29-03; 5:00 pm]

BILLING CODE 4710-10-P